INTERNATIONAL TRADE COMMISSION

[Investigation Nos. 701-TA-437 and 731-TA-1060-1061 (Third Review)]

Carbazole Violet Pigment 23 From China and India

Determinations

On the basis of the record ¹ developed in the subject five-year reviews, the United States International Trade Commission (“Commission”) determines, pursuant to the Tariff Act of 1930 (“the Act”), that revocation of the countervailing duty order on carbazole violet pigment 23 from India and the antidumping duty orders on carbazole violet pigment 23 from China and India would be likely to lead to continuation or recurrence of material injury to an industry in the United States within a reasonably foreseeable time.

¹ The record is defined in § 207.2(f) of the Commission's Rules of Practice and Procedure (19 CFR 207.2(f)).

Background

The Commission instituted these reviews on October 1, 2020 (85 FR 61977), and determined on January 4, 2021, that it would conduct expedited reviews (86 FR 24414, May 6, 2021).

The Commission made these determinations pursuant to section 751(c) of the Act (19 U.S.C. 1675(c)). It completed and filed its determinations in these reviews on June 1, 2021. The views of the Commission are contained in USITC Publication 5201 (June 2021), entitled Carbazole Violet Pigment 23 from China and India: Investigation Nos. 701-TA-437 and 731-TA-1060-1061 (Third Review).

By order of the Commission.
Issued: June 1, 2021.
Lisa Barton,
Secretary to the Commission.

[FR Doc. 2021-11795 Filed 6-4-21; 8:45 am]

BILLING CODE 7020-02-P